DEPARTMENT OF TRANSPORTATION

Coast Guard

33 CFR Part 165

[CGD09-02-001]

RIN 2115-AA97

Security Zones; Captain of the Port Chicago Zone, Lake Michigan

AGENCY: Coast Guard, DOT.

ACTION: Final rule; correction.

SUMMARY: The Coast Guard published a final rule on August 16, 2002, creating a permanent security zone on the navigable waters of the Des Plaines River, the Kankakee River, the Rock River, and Lake Michigan. The section number for the security zones in that rule was incorrect. This document corrects the section number for the security zones.

DATES: This correction is effective October 23, 2002.

FOR FURTHER INFORMATION CONTACT: MST3 Kathryn Varela, U.S. Coast Guard Marine Safety Office Chicago, at (630) 986-2175.

SUPPLEMENTARY INFORMATION:

Background and Purpose

The Coast Guard published a permanent security zone in the Federal Register on August 16, 2002, (67 FR 53501), adding section 165.908.

Need for Correction

As published, the section number used in the amendatory instruction and regulatory text was incorrect.

Correction of Publication

In rule FR Doc. 02-20755 published on August 16, 2002 (67 FR 53501) make the following corrections. On page 53502, in the third column, in line 49 and in line 50, change “165.908” to read “165.910”.

Dated: September 30, 2002.
L. M. Henderson,
Commander, U.S. Coast Guard, Acting Captain of the Port Chicago.

[FR Doc. 02-27032 Filed 10-22-02; 8:45 am]

BILLING CODE 4910-15-P